DEPARTMENT OF COMMERCE

National Oceanic and Atmospheric Administration

RIN 0648-XC847

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Skate Advisory Panel and Skate Oversight Committee on September 20, 2013 to consider actions affecting New England fisheries in the exclusive economic zone (EEZ). Recommendations from this group will be brought to the full Council for formal consideration and action, if appropriate.

DATES: This meeting will be held on Friday, September 20, 2013 at 9:30 a.m.

ADDRESSES: Meeting address: The meeting will be held at the Holiday Inn, One Newbury Street, Peabody, MA 019601; telephone: (978) 535-4600; fax: (978) 535-8238.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Skate Oversight Committee and Advisory Panel will consider updated status determinations from the Plan Development (PDT) and recommendations for the Skate Allowable Biological Catch (ABC), pending a review by the Science and Statistical Committee (SSC). The Committee and Advisory Panel will discuss the overfishing status of thorny and winter skates. The Committee and Advisory Panel will also discuss priorities for 2014.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 28, 2013.
Tracey L. Thompson,
Acting Deputy Director, Office of Sustainable Fisheries, National Marine Fisheries Service.

[FR Doc. 2013-21369 Filed 8-30-13; 8:45 am]

BILLING CODE 3510-22-P